POSTAL SERVICE

39 CFR Part 20

International Competitive Services Product and Price Changes Correction

AGENCY: Postal Service™.

ACTION: Final rule; correction.

SUMMARY: The Postal Service published a final notice in the Federal Register, on November 30, 2021, regarding the revisions to Mailing Standards of the United States Postal Service, International Mail Manual (IMM®), to reflect the prices, product features, and classification changes to Competitive Services and other minor changes, as established by the Governors of the Postal Service effective January 9, 2022. That document contained an error in the Certificate of Mailing Individual Pieces chart in that it incorrectly listed the firm mailing sheet (PS Form 3665), per piece (minimum 3) First-Class Mail International only with the price for all other qualifying classes of mail. There is no price change to First Class Mail International only. This document serves to correct the error by replacing First Class Mail International only to reflect all other qualifying classes of mail.

DATES: Effective date: January 9, 2022.

FOR FURTHER INFORMATION CONTACT: Dale Kennedy at 202-268-6592 or Kathy Frigo at 202-268-4178.

SUPPLEMENTARY INFORMATION:

Correction

On page 67863, column 3 under Certificate of Mailing Individual Pieces, revise the third line titled Firm mailing sheet (PS Form 3665), per piece (minimum 3) First-Class Mail International only to reflect Firm mailing sheet (PS Form 3665), per piece (minimum 3) All other qualifying classes of mail as follows:

• Certificate of mailing service: Prices for competitive international certificate of mailing service will be as follows:

Certificate of Mailing
| Fee
Individual pieces:
Individual article (PS Form 3817) | $1.65
Duplicate copy of PS Form 3817 or PS Form 3665 (per page) | 1.65
Firm mailing sheet (PS Form 3665), per piece (minimum 3) All other qualifying classes of mail | 0.57
Bulk quantities:
For first 1,000 pieces (or fraction thereof) | 9.35
Each additional 1,000 pieces (or fraction thereof) | 1.20
Duplicate copy of PS Form 3606 | 1.65

Ruth Stevenson,
Chief Counsel, Ethics and Legal Compliance.

[FR Doc. 2021-26971 Filed 12-13-21; 8:45 am]

BILLING CODE P